DEPARTMENT OF HEALTH AND HUMAN SERVICES

Meetings of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a closed session under exemption 9(B) of the Government in Sunshine Act, 5 U.S.C. section 552b(c).

DATES: The closed session of the NBSB will take place on September 17, 2012, and is tentatively scheduled from 1:30 p.m. to 3:30 p.m. EST. The agenda and time for the session are subject to change as priorities dictate. Please check the NBSB Web site for the most up-to-date information.

ADDRESSES: The closed session will be held by teleconference and/or webinar and will not be open to the public as stipulated under exemption 9(B) of the Government in Sunshine Act, 5 U.S.C. section 552b(c).

FOR FURTHER INFORMATION CONTACT: The National Biodefense Science Board mailbox: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services (HHS) regarding current and future chemical, biological, nuclear, and radiological agents, whether naturally occurring, accidental, or deliberate. The Board may also provide advice and guidance to the Secretary and/or the Assistant Secretary for Preparedness and Response (ASPR) on other matters related to public health emergency preparedness and response.

Background: The NBSB continues to review and evaluate the 2012 Public Health Emergency Medical Countermeasures Enterprise (PHEMCE) Strategy and Implementation Plan (SIP). Therefore, the Board's deliberations on the PHEMCE SIP task are being conducted in closed sessions in accordance with provisions set forth under exemption 9(B) of the Government in Sunshine Act, 5 U.S.C. section 552b(c), and with approval by the ASPR. For a full description for the basis for closing this session, please see the previous meeting notice published at 77 FR 13129 (2012).

Availability of Materials: The meeting agenda and materials will be posted on the NBSB Web site at www.PHE.GOV/NBSB.

Procedures for Providing Public Input: All written comments should be sent by email to NBSB@HHS.GOV with “NBSB Public Comment” as the subject line.

Dated: August 20, 2012.
Nicole Lurie,
Assistant Secretary for Preparedness and Response.

[FR Doc. 2012-20930 Filed 8-23-12; 8:45 am]

BILLING CODE 4150-37-P